ENVIRONMENTAL PROTECTION AGENCY

[FRL-8192-2]

Availability of Fiscal Year 2005 Grantee Performance Evaluation Reports for Iowa, Kansas, Nebraska, and the Unified Government of Wyandotte County, KS

AGENCY: Environmental Protection Agency (EPA).

ACTION: Notice of availability of Clean Air Act, section 105 grantee performance evaluation reports.

SUMMARY: EPA's grant regulations (40 CFR 35.115) require the Agency to evaluate the performance of agencies which receive grants. EPA's regulations for regional consistency (40 CFR 56.7) require that the Agency notify the public of the availability of the reports of such evaluation. EPA performed end-of-year evaluations of three state air pollution control programs (Iowa Department of Natural Resources; Kansas Department of Health and Environment; Nebraska Department of Environmental Quality); and one local air pollution control program (Unified Government of Wyandotte County, Kansas). These evaluations were conducted to assess the agencies' performance under the grants awarded by EPA under authority of section 105 of the Clean Air Act.

ADDRESSES: Copies of the evaluation reports are available for public inspection at EPA's Region 7 office, 901 North 5th Street, Kansas City, Kansas 66101, in the Air Planning and Development Branch of the Air, RCRA and Toxics Division.

FOR FURTHER INFORMATION CONTACT: Evelyn VanGoethem, (913) 551-7659, or by e-mail at vangoethem.evelyn@epa.gov.

Dated: June 27, 2006.
William W. Rice,
Acting Regional Administrator, Region 7.

[FR Doc. E6-10741 Filed 7-7-06; 8:45 am]

BILLING CODE 6560-50-P